DEPARTMENT OF THE INTERIOR

Fish and Wildlife Service

Silvio O. Conte National Fish and Wildlife Refuge

AGENCY: Fish and Wildlife Service, Interior.

ACTION: Notice of intent to prepare a comprehensive conservation plan and environmental impact.

SUMMARY: The U.S. Fish and Wildlife Service (Service) is preparing a Comprehensive Conservation Plan (CCP) and Environmental Impact Statement (EIS) for Silvio O. Conte National Fish and Wildlife Refuge (NFWR). This notice advises the public that the Service intends to gather information necessary for preparing the CCP and EIS pursuant to the National Wildlife Refuge System Administration Act of 1966, as amended by the National Wildlife Refuge System Improvement Act of 1997, and the National Environmental Policy Act of 1969. The Service is furnishing this notice in compliance with Service policy to achieve the following: (1) Advise other Federal and State agencies and the public of our intention to conduct detailed planning on this refuge; and, (2) obtain suggestions and information on the scope of issues to include in the environmental document.

The Service will involve the public through open houses, informational and technical meetings, and written comments. Special mailings, newspaper articles, and announcements will provide information about opportunities for public involvement in the planning process.

DATES: We are soliciting written comments and will hold a number of public scoping meetings throughout the four-State watershed. All meetings will be held from 7 to 9 p.m. We will also announce these meetings at least 2 weeks in advance in special mailings and on the refuge's planning Web page at http://www.fws.gov/northeast/planning/Conte/ccphome.html.

ADDRESSES: Silvio O. Conte NFWR, 52 Avenue A, Turners Falls, Massachusetts, 01376; telephone 413-863-0209; fax 413-863-3070; Web site: http://www.fws.gov/northeast/planning/Conte/ccphome.html.

FOR FURTHER INFORMATION CONTACT: Beth Goldstein, Refuge Planner, U.S. Fish and Wildlife Service, 300 Westgate Center Drive, Hadley, Massachusetts 01035; telephone 413-253-8564; fax 413-253-8468; e-mail northeastplanning@fws.gov. Use “Conte NFWR” in the subject title of your e-mail.

SUPPLEMENTARY INFORMATION: Under the National Wildlife Refuge System Administration Act of 1966, as amended by the National Wildlife Refuge System Improvement Act of 1997 (16 U.S.C. 668dd-668ee), the Service is to manage all lands in the National Wildlife Refuge System in accordance with an approved CCP. The plan guides management decisions and identifies refuge goals, long-range objectives, and strategies for achieving refuge purposes over a 15-year period.

The planning process will cover many elements, including wildlife and habitat protection and management, wildlife-dependent visitor and recreational activities, cultural resource protection, and facilities and infrastructure. Compatibility determinations will be completed for all applicable refuge uses. We will also conduct a wilderness review and a wild and scenic rivers evaluation to determine whether any areas on the refuge qualify for those Federal designations.

Public input into the planning process is essential. The comments we receive will help identify key issues and develop refuge goals and objectives for managing refuge resources and visitor use. Additional opportunities for public participation will arise throughout the planning process, which we expect to complete in 2008. Data collection has already begun to compile up-to-date information on refuge resources and serve as a foundation for science-based resource decisions. We will prepare the EIS in accordance with the Council on Environmental Quality procedures for implementing the National Environmental Policy Act of 1969 (42 U.S.C. 4321-4370d).

Congress established Silvio O. Conte NFWR in 1997 to protect populations of migratory fish and birds, threatened and endangered plants and animals, and other native species throughout the 7.2-million-acre Connecticut River watershed. The Connecticut River supports the Northeast's most extensive network of diverse and high-quality fresh, brackish, and salt marshes. Silvio O. Conte NFWR conserves these valuable areas by supporting habitat protection, management and research, invasive plant control, and salt marsh restoration. The refuge encompasses 32,179 acres at specific locations in the four watershed States of Connecticut, Massachusetts, New Hampshire, and Vermont.

Refuge visitors engage in wildlife observation and photography, environmental education, hunting, and fishing. The refuge headquarters is presently located in Turners Falls, Massachusetts.

Dated: October 11, 2006.
Kathleen A. Bangert,
Acting Regional Director, U.S. Fish and Wildlife Service, Hadley, Massachusetts.

[FR Doc. E6-17561 Filed 10-19-06; 8:45 am]

BILLING CODE 4310-55-P